DEPARTMENT OF COMMERCE

International Trade Administration

A-549-813

Initiation and Preliminary Results of Antidumping Duty Changed Circumstances Review: Canned Pineapple Fruit From Thailand

AGENCY: Import Administration, International Trade Administration, Department of Commerce.

ACTION: Notice of Initiation and Preliminary Results of Antidumping Duty Changed Circumstances Review.

SUMMARY: In response to a letter from The Thai Pineapple Public Co., Ltd. notifying the Department of Commerce that its corporate name has changed to Tipco Foods (Thailand) Public Co., Ltd., the Department of Commerce is initiating a changed circumstances administrative review of the antidumping duty order on canned pineapple fruit from Thailand (see Notice of Antidumping Duty Order and Amended Final Determination: Canned Pineapple Fruit From Thailand, 60 FR 36775 (July 18, 1995)). Based on information submitted with the April 26, 2004, letter, we preliminarily determine that Tipco Foods (Thailand) Public Co., Ltd. is the successor-in-interest to The Thai Pineapple Public Co., Ltd (TIPCO) and, as such, is entitled to TIPCO's cash deposit rate with respect to entries of subject merchandise.

EFFECTIVE DATE: June 1, 2004.

FOR FURTHER INFORMATION CONTACT: Kristina Boughton or Charles Riggle at (202) 482- 8173 or (202) 482-0650, respectively; AD/CVD Enforcement Office 5, Group II, Import Administration, International Trade Administration, U.S. Department of Commerce, 14th Street and Constitution Avenue, NW, Washington, DC 20230.

SUPPLEMENTARY INFORMATION:

Background

On April 26, 2004, Tipco Foods (Thailand) Public Co. Ltd. (Tipco Foods) requested that the Department of Commerce (the Department) initiate a changed circumstances review to confirm that Tipco Foods is the successor-in-interest to TIPCO for purposes of determining antidumping duty liabilities. This name change is relevant to the ongoing 2002-2003 administrative review of the antidumping duty order on canned pineapple fruit (CPF) from Thailand because the Department has issued a preliminary determination to revoke the order with respect to this company. See Notice of Preliminary Results and Preliminary Determination To Revoke Order in Part: Canned Pineapple Fruit From Thailand, 69 FR 18524 (April 8, 2004).

Scope of the Review

The product covered by this order is CPF, defined as pineapple processed and/or prepared into various product forms, including rings, pieces, chunks, tidbits, and crushed pineapple, that is packed and cooked in metal cans with either pineapple juice or sugar syrup added. CPF is currently classifiable under subheadings 2008.20.0010 and 2008.20.0090 of the Harmonized Tariff Schedule of the United States (HTSUS). HTSUS 2008.20.0010 covers CPF packed in a sugar-based syrup; HTSUS 2008.20.0090 covers CPF packed without added sugar (i.e., juice-packed). Although these HTSUS subheadings are provided for convenience and for customs purposes, the written description of the scope is dispositive.

Initiation and Preliminary Results of Changed Circumstances Review

Pursuant to section 751(b)(1) of the Tariff Act of 1930, as amended (the Act), and 19 CFR 351.216, the Department will conduct a changed circumstances review upon receipt of information concerning, or a request from an interested party for a review of, an antidumping duty finding which shows changed circumstances sufficient to warrant a review of the order. The information submitted by Tipco Foods claiming that it is the successor-in-interest to TIPCO demonstrates changed circumstances sufficient to warrant a review. See 19 CFR 351.216(d).

In accordance with the above-referenced regulations, the Department is initiating a changed circumstances review to determine whether Tipco Foods is the successor-in-interest to TIPCO. In determining whether one company is the successor to another for purposes of applying the antidumping duty law, the Department examines a number of factors including, but not limited to, changes in (1) management, (2) production facilities, (3) suppliers, and (4) customer base. See, e.g., Industrial Phosphoric Acid From Israel; Final Results of Antidumping Duty Changed Circumstances Review, 59 FR 6944 (February 14, 1994). While no one or several of these factors will necessarily provide a dispositive indication of succession, the Department will generally consider one company to be a successor to another company if its resulting operation is essentially the same as that of its predecessor. Thus, if the evidence demonstrates that, with respect to the production and sale of the subject merchandise, the new company operates as the same business entity as the prior company, the Department will assign the new company the cash deposit rate of its predecessor.

On April 26, 2004, Tipco Foods submitted information demonstrating that it is the successor to TIPCO. Specifically, Tipco Foods provided the minutes to its December 12, 2003, shareholders meeting at which the name change was approved. In addition, Tipco Foods provided a copy of the new company registration certificate filed with the Thai Ministry of Foreign Affairs on December 23, 2003, and the certificate issued by the Revenue Department of Thailand, which established that Tipco Foods would use the same taxpayer ID number used by TIPCO. Finally, Tipco Foods attached a copy of its December 22, 2003, letter to the Stock Exchange of Thailand (SET) notifying the SET of the name change, and a newsletter posted by the SET announcing the name change to investors.

We also obtained information in the context of the 2002-2003 review demonstrating that no major changes occurred with respect to TIPCO's management, plant facilities, customer base, or suppliers. Specifically, at verification in February 2004, we noted no difference in managers between TIPCO and Tipco Foods, as we interviewed the same managers at this verification whom we interviewed at the verification conducted in February 2003. See Attachment I of the Memorandum to the File: Changed Circumstances Review for the Thai Pineapple Public Co., Ltd. (TIPCO) (May 18, 2004) (Changed Circumstances Memo). We also noted that the headquarters and plant facilities remained the same and that Tipco Food's suppliers and customers were consistent with the suppliers and customers it had in the previous review.

As part of our standard verification procedures, we examine the full range of merchandise produced during a review period. While on site we noted that the products Tipco Foods was producing and offering for sale were the same products that TIPCO reported and we verified in the current and previous reviews. Furthermore, we noted that the product catalog under the company's new name on its web site consists of the same products the company sold prior to its name change. See Attachment II of the Changed Circumstances Memo. Therefore, the change in name had no material effect on the operations of the company with respect to the production and sale of subject merchandise.

When it concludes that expedited action is warranted, the Department may publish the notice of initiation and preliminary results for a changed circumstances review concurrently. See 19 CFR 221(c)(3)(ii). Based on the information on the record, we preliminarily find that Tipco Foods is the successor-in-interest to TIPCO and, as such, is entitled to TIPCO's cash deposit rate with respect to entries of subject merchandise.¹

¹ See, e.g., Circular Welded Non-Alloy Steel Pipe From Korea; Final Results of Antidumping Duty Changed Circumstances Review, 63 FR 20572 (April 27, 1998) where the Department found successorship where the company changed its name only and did not change its operations.

Should our final results remain the same as these preliminary results, we would instruct U.S. Customs and Border Protection (CBP) to assign Tipco Foods the antidumping duty cash deposit rate applicable to TIPCO.

Public Comment

Any interested party may request a hearing within 14 days of publication of this notice. See 19 CFR 351.310(c). Any hearing, if requested, will be held 28 days after the date of publication of this notice, or the first working day thereafter. Interested parties may submit case briefs and/or written comments not later than 14 days after the date of publication of this notice. Rebuttal briefs and rebuttals to written comments, which must be limited to issues raised in such briefs or comments, may be filed not later than 21 days after the date of publication of this notice. Parties who submit case briefs or rebuttal briefs in this proceeding are requested to submit with each argument (1) a statement of the issue and (2) a brief summary of the argument with an electronic version included. Consistent with section 351.216(e) of the Department's regulations, we will issue the final results of this changed circumstances review no later than 270 days after the date on which this review was initiated, or within 45 days if all parties agree to our preliminary finding. We are issuing and publishing this finding and notice in accordance with sections 751(b)(1) and 777(i)(1) of the Act and sections 351.216 and 351.221(c)(3) of the Department's regulations.

Dated: May 24, 2004.
James J. Jochum,
Assistant Secretaryfor Import Administration.

[FR Doc. 04-12295 Filed 5-28-04; 8:45 am]

BILLING CODE 3510-DS-S